DEPARTMENT OF JUSTICE

Notice of Lodging of Proposed Consent Decree

In accordance with Departmental Policy, 28 CFR 50.7, notice is hereby given that a proposed Consent Decree in United States v. Trager Limestone LLC, Case No. 20-cv-6060, was lodged with the United States District Court for the Western District of Missouri on July 5, 2022.

This proposed Consent Decree concerns a complaint filed by the United States against Defendant Trager Limestone LLC, pursuant to Sections 309(b), (d), and 311(b) of the Clean Water Act, 33 U.S.C. 1319(b), (d), and 1321(b), to obtain injunctive relief from and impose civil penalties against the Defendant for violating Sections 301(a) and 311(j) of the Clean Water Act, 33 U.S.C. 1311(a) and 1321(j), by discharging pollutants without a permit into waters of the United States, and for failing to meet the requirements of the Environmental Protection Agency's “Spill Prevention, Control, and Countermeasures Plan” regulations. The proposed Consent Decree resolves these allegations by requiring the Defendant to restore the impacted areas, record a conservation easement, and pay a civil penalty.

The Department of Justice will accept written comments relating to this proposed Consent Decree for thirty (30) days from the date of publication of this Notice. Please address comments to Phillip R. Dupré, Department of Justice, Environment and Natural Resources Division, Environmental Defense Section, Post Office Box 7611, Washington, DC 20044, pubcomment_eds.enrd@usdoj.gov, and refer to United States v. Trager Limestone LLC, DJ No. 90-5-1-1-21606.

The proposed Consent Decree may be examined at the Clerk's Office, United States District Court for the Western District of Missouri, Charles Evans Whittaker United States Courthouse, 400 E 9th Street, Kansas City, MO 64106. In addition, the proposed Consent Decree may be examined electronically at https://www.justice.gov/enrd/consent-decrees.

Cherie Rogers,
Assistant Section Chief, Environmental Defense Section, Environment and Natural Resources Division.

[FR Doc. 2022-14762 Filed 7-11-22; 8:45 am]

BILLING CODE P